DEPARTMENT OF ENERGY

Federal Energy Regulatory Commission

[Project No. 11872-001]

Gentry Resources Corporation; Notice of Surrender of Preliminary Permit

March 10, 2005.

Take notice that Gentry Resources Corporation, permittee for the proposed Lake Pleasant Pumped Storage Project, has requested that its preliminary permit be terminated. The permit was issued on January 21, 2004, and would have expired on December 31, 2006.¹ The project would have been located on the Aqua Fria River in Maricopa and Yavapai Counties, Arizona.

¹ 106 FERC ¶ 62,042.

The permittee filed the request on February 17, 2005, and the preliminary permit for Project No. 11872 shall remain in effect through the thirtieth day after issuance of this notice unless that day is a Saturday, Sunday, part-day holiday that affects the Commission, or legal holiday as described in section 18 CFR 385.2007, in which case the effective date is the first business day following that day. New applications involving this project site, to the extent provided for under 18 CFR Part 4, may be filed on the next business day.

Magalie R. Salas,
Secretary.

[FR Doc. E5-1150 Filed 3-15-05; 8:45 am]

BILLING CODE 6717-01-P